DEPARTMENT OF HEALTH AND HUMAN SERVICES

Administration for Community Living

Availability of Program Application Instructions for Adult Protective Services Funding

Title: Elder Justice Act—Adult Protective Services.

Announcement Type: Initial.

Statutory Authority: 42 U.S.C 1397m-1.

Catalog of Federal Domestic Assistance (CFDA) Number: 93.698.

DATES: Letters of Assurance and the Initial Spend Plan must be submitted electronically by 11:59 p.m. (EST) March 15, 2024.

I. Funding Opportunity Description

The Administration for Community Living (ACL) is establishing the “Elder Justice Act—Adult Protective Services” funding opportunity in accordance with section 2042(b) of subtitle B of title XX of the Social Security Act, otherwise known as the Elder Justice Act (EJA) as authorized and funded through the Further Additional Continuing Appropriations and Other Extensions Act, 2024, Public Law 118-35. In accordance with these statutes, the purpose of this opportunity is to enhance and improve adult protective services provided by States, the District of Columbia, and the Territories.

Funds awarded to States and Territories under this opportunity will provide Adult Protective Services (APS) programs in the States, District of Columbia, and Territories with resources to enhance, improve, and expand the ability of APS to investigate allegations of abuse, neglect, and exploitation. Examples of activities consistent with the purposes of the statute include:

• Costs and salaries for hiring permanent or temporary staff members, extended hours/over-time for current staff, and associated personnel costs;

• Costs associated with providing goods and services to APS clients;

• Costs associated with community outreach, including public awareness campaigns and other resources designed to increase the public's awareness and understanding of APS' role in the community;

• Training costs, including state-wide training conferences for APS staff;

• Acquiring personal protection equipment and supplies;

• Improving and enhancing technology systems, including supporting remote work, such as the purchase of communications and technology hardware, software, or infrastructure in order to provide adult protective services;

• Improving data collection and reporting at the case worker, local-, and State-levels in a manner that is consistent with the National Adult Maltreatment Reporting System (NAMRS);

• Improving or enhancing existing APS processes for receiving reports, conducting intakes and investigations, planning/providing for services, making case determinations, documenting and closing cases, and continuous quality improvement;

• Working with tribal adult protective services efforts, such as conducting demonstrations on State-Tribal APS partnerships to better serve tribal elders who experience abuse, neglect, and exploitation, partnering with Tribes within the State to include tribal elder abuse data in the State's NAMRS reporting, and undertaking demonstrations to better understand elder abuse experienced by tribal individuals living in non-tribal communities and served by State APS programs;

• Establishing or enhancing the availability for elder shelters and other emergency, short-term housing and accompanying “wrap-around” services for APS clients;

• Establishing, expanding, or enhancing state-wide and local-level elder justice networks for the purpose of removing bureaucratic obstacles and improving coordination across the many State and local agencies interacting with APS clients who have experienced abuse, neglect, or exploitation;

• Costs associated with establishing new, or improving existing processes for responding to alleged scams and frauds;

• Costs associated with assisting APS clients secure the least restrictive option for emergency or alternative housing, and with obtaining, providing, or coordinating with care transitions as appropriate;

• Costs associated with transporting APS clients to necessary appointments, such as medical visits; and

• Costs associated with establishing grants or contracts to address gaps in the APS program identified in the environmental scan previously completed.

Awards authorized under the EJA section 2042(b) shall be provided to the agency or unit of State government having the legal responsibility for providing adult protective services within the State, District of Columbia, or Territory. Funding under this opportunity may be used to serve any APS client who meets their State's statutory or regulatory criteria for client eligibility for APS services. This funding must supplement and not supplant existing funding for APS provided by States and local units of government. Additionally, award recipients will be required to submit Federal financial reports and annual program reports related to the activities performed.

II. Award Information

A. Eligible Entity

The eligible entity for these awards is the agency or unit of State government legally responsible for providing adult protective services in each State, the District of Columbia, or Territory (EJA section 2042(b)(3)(B)).

B. Funding Instrument Type

These awards will be made in the form of formula grants to the agencies and units of State government with the legal responsibility to provide adult protective services.

C. Anticipated Total Funding per Budget Period

Under this program, ACL intends to make grant awards to each State, Territory, and the District of Columbia. Funding will be distributed through the formula identified in section 2042(b) of the Elder Justice Act. The amounts allocated are based upon the proportion of elders living in each State and Territory, as defined in statute, and will be distributed based on the formula. There are no cost-sharing nor match requirements.

The project period for awards made under this announcement have an estimated start date of April 1, 2024 and an estimated end date of March 30, 2028. These awards have a 24-month budget period. Projected available funding for FY 2024 is $13,766,829. The projected available funding is based on the FY23 appropriation levels, as described in the Further Additional Continuing Appropriations and Other Extensions Act, 2024, Public Law 118-35. Availability of funding and Notices of Award are contingent upon final Congressional appropriations, and this Notice will be updated accordingly.

Below are the projected award amounts for FY 2024:

Alabama | $202,092
Alaska | 103,251
Arizona | 295,966
Arkansas | 118,929
California | 1,370,306
Colorado | 204,579
Connecticut | 148,885
Delaware | 103,251
District of Columbia | 19,193
Florida | 1,020,937
Georgia | 371,308
Hawaii | 103,251
Idaho | 103,251
Illinois | 481,263
Indiana | 257,455
Iowa | 128,721
Kansas | 111,431
Kentucky | 176,257
Louisiana | 174,021
Maine | 103,251
Maryland | 234,760
Massachusetts | 280,653
Michigan | 416,921
Minnesota | 223,065
Mississippi | 112,707
Missouri | 247,579
Montana | 103,251
Nebraska | 103,251
Nevada | 118,427
New Hampshire | 103,251
New Jersey | 361,336
New Mexico | 103,251
New York | 788,096
North Carolina | 411,823
North Dakota | 103,251
Ohio | 478,682
Oklahoma | 146,670
Oregon | 175,035
Pennsylvania | 557,851
Rhode Island | 103,251
South Carolina | 220,397
South Dakota | 103,251
Tennessee | 271,006
Texas | 914,609
Utah | 103,251
Vermont | 103,251
Virginia | 326,196
Washington | 288,664
West Virginia | 103,251
Wisconsin | 246,152
Wyoming | 103,251
American Samoa | 13,767
Guam | 13,767
Northern Marianas | 13,767
Puerto Rico | 157,773
Virgin Islands | 13,767

III. Submission Requirements

A. Letter of Assurance

A Letter of Assurance is required to be submitted by the eligible entity in order to receive an award. The Letter of Assurance must include the following:

1. Assurance that the award recipient is the agency or unit of State government legally responsible for providing adult protective services in each State and Territory.

2. Assurance that funds will supplement and not supplant existing APS funding.

3. Assurance that the award recipient has included an initial spend plan for the FY 2024 funds, that a spend plan will be submitted prior to awards for each new budget period, and that the initial spend plans will be regularly maintained to accurately reflect how the recipient is investing their funding under this program.

4. Assurance that the award recipient will provide within 180 days of award an updated operational plan that covers activities through 2028.

5. Assurance that funds will be spent in ways consistent with the Elder Justice Act Section 2042(b) and guidance provided by ACL, including the examples of activities consistent with the purposes of the authorizing legislation contained in this notice:

• Personnel costs;

• Providing goods and services to APS clients;

• Community outreach;

• Training;

• Acquiring personal protection equipment and supplies;

• Improving and enhancing technology systems;

• Improving data collection and reporting at the case worker, local-, and State-levels in a manner that is consistent with the National Adult Maltreatment Reporting System;

• Improving or enhancing existing APS processes;

• Working with tribal adult protective services efforts;

• Establishing or enhancing the availability for elder shelters and other emergency, short-term housing and accompanying “wrap-around” services;

• Establishing, expanding, or enhancing state-wide and local-level elder justice networks;

• Improving and supporting remote work;

• Establishing new, or improving existing processes for responding to alleged scams and frauds;

• Transportation costs;

• Assisting APS clients secure the least restrictive option for emergency or alternative housing, and with obtaining, providing, or coordinating with care transitions as appropriate; and

• Establishing grants and contracts as needed.

6. Assurance to provide Federal financial reports and annual program reports related to the activities performed for each fiscal year of funding received.

B. Spend Plans

An Initial Spend Plan is required with the submission of the Letter of Assurance, and prior to awards for each new budget period through the end of the project period. The Initial Spend Plan should outline how the State/Territory intends to spend their fiscal year allotment in response to the needs and challenges to their APS program. The plan should be consistent with the purpose of the authorizing legislation and the description and examples outlined above. The Initial Spend Plan should have the following format: 3-5 pages in length, double-spaced, with 12pt font and 1″ margins, with a layout of 8.5″ x 11″ paper. The Initial Spend Plan submitted is considered a preliminary framework for how the State/Territory will plan to spend the funds for the specified fiscal year, and they should be maintained on a regular basis to reflect accurately how the APS program is investing their funding.

C. Unique Entity ID Number

All grant applicants must obtain and keep current a Unique Entity ID (UEI). On April 4, 2022, the unique entity identifier used across the Federal Government changed from the DUNS Number to the Unique Entity ID (generated by SAM.gov). The Unique Entity ID is a 12-character alphanumeric ID assigned to an entity by SAM.gov. The UEI is viewable in your SAM.gov entity registration record.

D. Intergovernmental Review

Executive Order 12372, Intergovernmental Review of Federal Programs, is not applicable to these grant applications.

IV. Submission Information

A. Submission Process

To receive funding, eligible entities must provide a Letter of Assurance and an Initial Spend Plan (if applicable) containing all the information outlined in section III A. and B. above.

Materials should be addressed to: Alison Barkoff, Administration for Community Living, 330 C Street SW, Washington, DC 20201.

Letters of Assurance and the Initial Spend Plan should be submitted electronically via email to aps@acl.hhs.gov.

B. Submission Dates and Times

To receive consideration, Letters of Assurance and the Initial Spend Plan must be submitted by 11:59 p.m. (EST) March 15, 2024, Letters of Assurance and the Initial Spend Plan should be submitted electronically via email to aps@acl.hhs.gov and have an electronic time stamp indicating the date/time submitted.

V. Agency Contacts

A. Programmatic Issues/Questions

Direct programmatic inquiries to: Erin Kee, erin.kee@acl.hhs.gov and/or 202-795-7312.

B. Submission Issues/Questions

Direct inquiries regarding submission of applications to aps@acl.hhs.gov. ACL will provide a response within 2 business days.

Dated: February 8, 2024.
Alison Barkoff,
Principal Deputy Administrator for the Administration for Community Living, performing the delegable duties of the Administrator and the Assistant Secretary for Aging.

[FR Doc. 2024-03010 Filed 2-13-24; 8:45 am]

BILLING CODE 4154-01-P